ENVIRONMENTAL PROTECTION AGENCY

40 CFR Part 300

[EPA-HQ-SFUND-1989-0011; FRL-9980-58—Region 3]

National Oil and Hazardous Substances Pollution Contingency Plan; National Priorities List: Deletion of the Recticon/Allied Steel Superfund Site

AGENCY: Environmental Protection Agency (EPA).

ACTION: Proposed rule; notice of intent.

SUMMARY: The Environmental Protection Agency (EPA) Region III is issuing a Notice of Intent to Delete the Recticon/Allied Steel Superfund Site (Site) located in East Coventry Township, Chester County, Pennsylvania, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Pennsylvania (the Commonwealth), through the Pennsylvania Department of Environmental Protection (PADEP), have determined that all appropriate response actions under CERCLA have been completed. However, this deletion does not preclude future actions under Superfund.

DATES: Comments must be received by August 16, 2018.

ADDRESSES: Submit your comments, identified by Docket ID no. EPA-HQ-SFUND-1989-0011, by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: hass.andrew@epa.gov

• Mail: USEPA Region III, 1650 Arch Street, Mail Code: 3HS21; Philadelphia, PA. 19103.

• Hand delivery: USEPA Region III, 1650 Arch Street, Philadelphia, PA 19103. Such deliveries are only accepted during the Docket's normal hours of operation, and special arrangements should be made for deliveries of boxed information.

Instructions: Direct your comments to Docket ID no. EPA-HQ-SFUND-1989-0011 EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

USEPA Region III Administrative Records Room, 1650 Arch Street—6th Floor, Philadelphia, PA 19103-2029, 215-814-3157, Business Hours: Monday through Friday, 8:00am-4:30pm; by appointment only Local Repository

East Coventry Township Municipal Building, 855 Ellis Woods Road, Pottstown, PA 19464, 610-495-5443, Call for Business Hours

FOR FURTHER INFORMATION CONTACT: Andrew Hass, Remedial Project Manager, U.S. Environmental Protection Agency, Region 3, 3HS21 1650 Arch Street Philadelphia, PA 19103, (215) 814-2049, email: hass.andrew@epa.gov.

SUPPLEMENTARY INFORMATION:

Table of Contents

I. Introduction

II. NPL Deletion Criteria

III. Deletion Procedures

IV. Basis for Intended Site Deletion

I. Introduction

EPA Region III announces its intent to delete the Recticon/Allied Steel Superfund Site from the National Priorities List (NPL) and requests public comment on this proposed action. The NPL constitutes Appendix B of 40 CFR part 300 which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register.

Section II of this document explains the criteria for deleting sites from the NPL. Section III discusses procedures that EPA is using for this action. Section IV discusses the Recticon/Allied Steel Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

i. responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts Five-Year Reviews to ensure the continued protectiveness of remedial actions where hazardous substances, pollutants, or contaminants remain at a site above levels that allow for unlimited use and unrestricted exposure. Five-Year Reviews are no longer required at this Site; however, EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth before developing this Notice of Intent to Delete.

(2) EPA has provided the Commonwealth 30 working days for review of this notice prior to publication of it today

(3) In accordance with the criteria discussed above, EPA has determined that no further response is appropriate;

(4) The Commonwealth of Pennsylvania, through the Pennsylvania Department of Environmental Protection (PADEP), has concurred with deletion of the Site from the NPL.

(5) Concurrently with the publication of this Notice of Intent to Delete in the Federal Register, a notice is being published in a major local newspaper, the Pottstown Mercury. The newspaper notice announces the 30-day public comment period concerning the Notice of Intent to Delete the Site from the NPL.

(6) The EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

EPA proposed the Recticon/Allied Steel Superfund Site (Site) (CERCLIS ID PAD002353969) to the NPL on June 24, 1988 (53 FR 23988) and added the Site as final on the NPL on October 4, 1989 (54 FR 41000). The Site is located at the intersection of State Route 724 and Wells Road in East Coventry Township, PA and is approximately 8 miles northwest of Phoenixville, PA and 3.2 miles southeast of Pottstown, PA. The 5-acre Recticon/Allied Steel Site consists of two properties, the former Allied Steel Products Corporation facility and the former Recticon facility.

From 1972-1988, Allied Steel Products Corporation (Allied) began fabrication of various steel products on a property located on the eastern corner of the intersection. Recticon was a subsidiary of Rockwell International and manufactured silicon wafers for the electronics industry from 1974 to 1981 on the western corner of the intersection. In 1979, the Pennsylvania Department of Environmental Resources (PADER), now known as the Pennsylvania Department of Environmental Protection (PADEP), detected trichloroethylene (TCE) in the groundwater beneath the Site. In 1980, a contractor determined that leakage in the area of Allied's compressor room had released TCE onto the ground. High levels of TCE were found in Allied's on-site well. In addition, sediment samples taken from the drainage ditch alongside the Allied building yielded high levels of copper and zinc, well above ecological risk levels.

The Commonwealth of Pennsylvania and Recticon entered into a Consent Order in 1981 to undertake initial cleanup actions at the Site. Recticon, under PADER oversight, removed contaminated soils from the Site and transported them to an EPA-approved facility for disposal. Recticon also pumped and treated some of the groundwater beneath the Site for a few months. Under PADER oversight, Allied Steel also excavated contaminated soil and shipped it off-site for proper disposal. In 1990, EPA entered into two Consent Orders with Rockwell International, the former parent company of Recticon, to provide residential well filters to nearby residents and to conduct the Remedial Investigation/Feasibility Study (RI/FS).

Remedial Investigation and Feasibility Study (RI/FS)

The RI/FS was conducted from January 1991 through May 1993 and determined that soil, sediment, and groundwater were impacted by volatile organic compounds (VOCs) and metals from the historic operation of the Allied and Recticon facilities.

Selected Remedy

The Selected Remedy for the Site was documented in a June 30, 1993 Record of Decision (ROD) and modified in an August 29, 1997 ROD Amendment; a September 10, 2004 Explanation of Significant Differences (ESD); and a May 26, 2010 ESD. The following sections discuss the components of the Selected Remedy and details on implementation.

1993 Record of Decision

The Remedial Action Objectives (RAOs) for the Site as established in the 1993 ROD were as follows:

1. Prevent human exposure to contaminants in the groundwater.

2. Restore contaminated groundwater to its beneficial use and to background concentrations, if technically practicable, or Maximum Contaminant Levels (MCLs), whichever is more stringent.

3. Protect uncontaminated groundwater and surface water for current and future use, and environmental receptors.

After the 1993 ROD was finalized, EPA divided the Site remedial work into three operable units (OUs) to facilitate management of the remedial process.

• Operable Unit 1 (OU1)—Water Line

• Operable Unit 2 (OU2)—Soil

• Operable Unit 3 (OU3)—Groundwater

OU1—Water Line

The Selected Remedy for OU1 in the 1993 ROD consisted of the installation of a public water supply to East Coventry Township to 14 residences and businesses.

OU2—Soil

The Selected Remedy for OU2 in the 1993 ROD consisted of the excavation and off-site disposal of contaminated soils. The soil cleanup levels in the 1993 ROD were based on the amount of contamination that could remain in the soil without further contributing to groundwater contamination above “background” concentrations.

The 1997 ROD Amendment changed the cleanup levels for Site contaminants of concern (COCs) in groundwater from “background” concentrations to MCLs. This change was based on the Commonwealth of Pennsylvania's enactment of the Land Recycling and Environmental Remediation Standards Act (Act 2) on May 19, 1995, 35 Pa. Stat. § 6026.101 et seq., which established MCLs as the protective groundwater cleanup levels. As a result of the change in groundwater cleanup levels to MCLs, a new soil cleanup level was calculated for the proposed soil excavation response at the Site. Site-specific modeling was used to determine the maximum concentration of TCE that could be in the soil and not cause leaching into the groundwater above the MCL. The modeling resulted in a cleanup level of 1,600 µg/kg of TCE in soil. It was determined that additional soil excavation was no longer necessary because the concentrations of contaminants in the soil after the initial response action were below this cleanup level.

The 1997 ROD Amendment also required that institutional controls be implemented to prohibit soil excavation on the Recticon property that could result in exposure to contaminated soil via direct contact and to prohibit any new wells on Site until the groundwater cleanup levels are met.

The 2004 ESD eliminated the requirement for institutional controls to prohibit direct contact with the soil on the Recticon property. The ESD identified PADEP Act 2 Media Specific Concentrations (MSCs) for TCE for direct contact with soils as the cleanup level that would need to be exceeded for new institutional controls to be necessary. No TCE was detected in soil at the Site exceeding the PADEP Act 2 MSC for direct contact.

The ESD also eliminated the requirement to prohibit the construction of new groundwater wells at the Site.

OU3—Groundwater

The Selected Remedy for OU3 initially consisted of extraction and treatment of groundwater with discharge to the Schuylkill River following a pre-design hydrogeologic investigation and well abandonment. In accordance with the 1993 ROD, a comprehensive pre-design study of the groundwater at the Site was conducted to further define the outer boundaries of the groundwater plume and the hydraulic properties within the aquifer. Based on the findings of this study, a groundwater recovery system for contaminated groundwater was designed. The groundwater recovery system consisted of extraction, shallow tray air stripping and granular activated carbon treatment to remove the VOCs, and discharge of treated water to the Schuylkill River.

The 2010 ESD changed the groundwater extraction and treatment remedy to enhanced natural bioremediation of TCE. A successful pilot test, which reduced the levels of TCE in the Site wells, had been conducted using this technology. The 2010 ESD also re-instituted the requirement for institutional controls for groundwater use on both the Recticon and Allied properties, since all wells on these properties were not below the cleanup levels.

Response Actions

The Remedial Design and Remedial Action (RD/RA) were performed by Rockwell under Unilateral Administrative Order (UAO) No. III-94-16-DC issued on March 24, 1994. In accordance with the 1993 ROD, a Phase 1 Archeological Survey was performed in April 1995 prior to the start of onsite construction activity and determined that the Site had no historical significance. In 1999, Rockwell spun off its semiconductor business as an independent company called Conexant Systems, Inc. Conexant assumed responsibility for performing the RD/RA as required by the UAO.

OU1—Water Line

Construction of the water line was completed between September 1998 through November 1999 and consisted of extending a water main to the Site area and connecting 14 residences and businesses. Once the municipal water lines were connected, filtration systems previously used at the properties were no longer necessary. EPA performed the final inspection of the water line and connections on December 13, 1999.

OU2—Soil

In accordance with the 1993 ROD, verification sampling was conducted on the soil at the former Allied facility to determine the source and extent of copper and zinc contamination. An ecological assessment indicated that the copper and zinc levels exceeded the Region III Biological Technical Assistance Group (BTAG) screening values, and that any terrestrial or aquatic receptors on or near the Site would be exposed to unacceptable levels of these contaminants. As a result, EPA conducted a time-critical removal at the Site in April 1998. Six inches of contaminated soil were excavated and removed from a small portion of the Site known as the “crane area” and shipped off-site for proper disposal. The area was backfilled with clean soil and grass was planted.

The 1993 ROD also required the excavation of TCE contaminated soils on the former Recticon facility. This requirement was modified by the 1997 ROD Amendment, which changed the soil cleanup level. As a result of this change, no further soil excavation was required and institutional controls were instead required to prohibit soil excavation. The 2004 ESD subsequently eliminated the requirement for institutional controls for soil.

OU3—Groundwater

Construction of the groundwater portion of the remedy started in June 1998 and consisted of the installation of approximately 10 additional monitoring wells, an extraction well and the construction of a groundwater extraction and treatment system. EPA conducted a pre-final inspection of OU3 on April 19, 1999 and determined that Rockwell and its contractors had constructed the remedy in accordance with remedial design plans and specifications. A Preliminary Closeout Report (PCOR) was issued on December 14, 1999, documenting Construction Completion for the Site.

A Pilot Study was initiated in 2001 to evaluate the effectiveness of using enhanced bioremediation to treat groundwater contamination more effectively than groundwater extraction and treatment. The study consisted of injecting non-toxic food-grade amendments and other approved supplements into the groundwater to enhance the natural biodegradation occurring at the Site. A total of 13 injections were completed during the Pilot Study from June 2001 through February 2007 utilizing several different amendments. The Pilot Study effectively reduced VOC contamination in the groundwater close to groundwater cleanup levels. The 2010 ESD replaced groundwater extraction and treatment with enhanced bioremediation based on the results of the Pilot Study.

Cleanup Levels

Table 1 describes the soil and groundwater cleanup levels established in the 1997 ROD Amendment:

Table 1
COC | Medium | Standard
TCE | Soil | 1,600 μg/kg
TCE | Groundwater | 5 μg/L
Vinyl Chloride | Groundwater | 2 μg/L
1,1 dichloroethene | Groundwater | 7 μg/L
1,2 dichloroethane | Groundwater | 5 μg/L
1,2 dichloroethene | Groundwater | 70 μg/L
Tetrachloroethene | Groundwater | 5 μg/L

No soil was identified with TCE concentrations exceeding 1,600 μg/kg; therefore, no soil excavation was performed. Soil contaminated with zinc and copper at the Allied facility was excavated and disposed offsite under a time-critical removal action by EPA in 1998.

Groundwater COC concentrations at all sampling locations were below the groundwater cleanup levels during the 2011 annual sampling event. In accordance with the 1993 ROD, twelve (12) quarters of groundwater sampling were performed between October 2011 and September 2014 to confirm that the cleanup levels have been achieved. Vinyl chloride was detected in one well during this sampling at a concentration exceeding the cleanup level of 2 μg/L and TCE was detected in one well at a concentration exceeding the cleanup level of 5 μg/L. For these two wells, statistical tools specified in EPA program guidance were used to evaluate attainment for vinyl chloride and TCE. These data were statistically analyzed and the cleanup level exceedances were determined not to be statistically significant. No other samples identified any COC above the groundwater cleanup levels throughout the twelve quarters of sampling.

Additionally, EPA performed a cumulative risk assessment using the 2014 groundwater sampling results. Groundwater COC concentrations were compared to EPA Tap Water Risk Screening Level (RSLs) and if the RSL was exceeded during any of the 2014 sampling events, a risk assessment was performed. The data were grouped in Exposure Areas (EAs) based on groundwater sampling locations. The cumulative risk results were below or within EPA's acceptable risk range for each of the EAs.

Based on the results of the twelve quarters of groundwater monitoring and the results of the cumulative risk assessment, the groundwater cleanup levels have been achieved at the Site.

EPA subsequently issued a Final Close Out Report (FCOR) for the Site dated December 17, 2017. The FCOR summarized the remedial activities conducted at the Site, and concluded that EPA has successfully completed all response actions for the Site in accordance with Close Out Procedures for National Priorities List Sites (OSWER Directive 9320.2-09A-P).

Operation and Maintenance

Operation and Maintenance (O&M) activities for the Site were focused on the groundwater portion of the remedy (OU3). The initial groundwater remedy involved extraction and treatment of contaminated groundwater at the Site from 1998 through 2002. The water was treated using a shallow tray air stripper and GAC and the treated water was discharged to the Schuylkill River. The discharge was in continuous compliance with the substantive requirements of the National Pollutant Discharge Elimination System (NPDES). The system treated approximately 200 million gallons of contaminated groundwater prior to being shut down in December 2002.

The 2010 ESD replaced the groundwater extraction and treatment component of the Selected Remedy with enhanced bioremediation. Groundwater monitoring confirmed that groundwater cleanup levels have been achieved at the Site and no ongoing or future O&M or additional groundwater monitoring is necessary.

Institutional Controls

The 1993 ROD required an institutional control to restrict access to those portions of the aquifer where contaminants remain above performance standards. Institutional controls were also included in the 1997 ROD Amendment to prohibit soil excavation on the Recticon property and installation of new wells on the Recticon property until groundwater cleanup levels were met.

The 2004 ESD stated that institutional controls were no longer required for soil and that the groundwater was making progress toward achieving cleanup levels, therefore, institutional controls prohibiting new wells were no longer required. However, in the 2010 ESD, EPA determined that institutional controls for groundwater were still required since the groundwater cleanup levels had not yet been achieved. Therefore, the installation of new groundwater wells on the two properties comprising the Site needed to be prohibited until the groundwater at the Site meets the cleanup levels selected in the 1997 ROD Amendment. This institutional control has been implemented by deed notices which have been placed on the titles for the two Site properties pursuant to a 2002 Prospective Purchaser Agreement with the current owner of the Allied portion of the Site, and a 2005 Consent Decree with Wellsford, Inc., the current owner of the Recticon portion of the Site.

The Chester County Health Departments Rules and Regulations, § 501.12.5.1, currently provide an additional layer of use restriction for the Site groundwater by prohibiting the installation or use of drinking water supply wells in the vicinity of the Site unless the wells are tested for contamination and treated if contamination is identified. The relevant provisions of the regulations are provided below:

501.12.5.1 A permit shall be denied and/or approval to use the water supply shall be withheld in those areas of the County where the Chester County Health Department has been notified by State or Federal agencies or other sources that the area is unsuitable for the installation of on-site water wells due to known groundwater contamination unless the following conditions are met:

501.12.5.1.1 The water well must be tested prior to use and on a yearly basis for all known and suspected contaminants in the area.

501.12.5.1.2 When the water quality analysis shows that the contaminant level exceeds the maximum contaminant levels allowed by the Safe Drinking Water Act, the water must be treated by the appropriate treatment unit before approval can be granted.

As discussed in detail above, groundwater cleanup levels have been achieved at the Site. Therefore, in accordance with the 2010 ESD, institutional controls prohibiting the installation of new wells at the Site are no longer required.

Five-Year Review

Pursuant to CERCLA section 121(c) and as provided in the current guidance on Five-Year Reviews Comprehensive Five-Year Review Guidance, OSWER Directive 9355.7-03B-P, June 2001, EPA must conduct a statutory Five-Year Review if hazardous substances remain on-site above levels that would not allow for unlimited use and unrestricted exposure. The Five-Year Reviews for the Site were signed on the following dates:

1. First Five-Year Review—May 14, 2005

2. Second Five-Year Review—June 23, 2010

3. Third Five-Year Review—May 11, 2015

No issues or recommendations were identified in the 2015 Third Five-Year Review. The Protectiveness Statement in the 2015 Third Five-Year Review was as follows:

“The Site is protective of human health and the environment. The RAOs established for the Site have been accomplished.”

There are no hazardous substances or materials left on-site above levels that would not allow for unlimited use and unrestricted exposure; therefore, additional Five-Year Reviews are not required in the future.

Community Involvement

EPA community relations staff conducted an active campaign to ensure that the residents were well informed about activities at the Site. Community relations activities included the following:

• Interviews of East Coventry Township officials for Five-Year Reviews

• Annual Meetings with Chester County Board of Health

In accordance with the requirements of 40 CFR 300.425(e)(4), EPA's community involvement activities associated with this deletion will consist of placing the deletion docket in the local Site information repository and placing a public notice of EPA's intent to delete the Site from the NPL in the Pottstown Mercury, a major, local newspaper of general circulation.

Determination That the Site Meets the Criteria for Deletion in the NCP

Construction of the Selected Remedy at the Site has been completed and O&M was completed in accordance with the EPA-approved O&M Plan. Institutional controls are no longer necessary at the Site. All RAOs, performance standards, and cleanup levels established in the 1993 ROD, 1997 ROD Amendment, 2004 ESD, and 2010 ESD have been achieved and the Selected Remedy is protective of human health and the environment in the short- and long-term. No further Superfund response is necessary to protect human health and the environment.

The Site Deletion procedures specified in 40 CFR 300.425(e) have been followed for the deletion of the Site. EPA, with concurrence of the Commonwealth through PADEP, has determined that all appropriate response actions under CERCLA, have been completed. Therefore, EPA is deleting the Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 19, 2018.
Cosmo Servidio,
Regional Administrator, EPA Region III.

[FR Doc. 2018-15244 Filed 7-16-18; 8:45 am]

BILLING CODE 6560-50-P